ENVIRONMENTAL PROTECTION AGENCY

[ER-FRL-9042-3]

Environmental Impact Statements; Notice of Availability

Responsible Agency: Office of Federal Activities, General Information (202) 564-5632 or https://www.epa.gov/nepa/.

Weekly receipt of Environmental Impact Statements

Filed 11/05/2018 Through 11/09/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180267, Final, USFS, CO, Golden Peak Improvements 2016, Review Period Ends: 12/26/2018, Contact: Max Forgensi 970-309-4861

EIS No. 20180268, Draft Supplement, FHWA, NH, Derry-Londonderry I-93 Exit 4A, Comment Period Ends: 01/04/2019, Contact: Jamison S. Sikora 603-410-4870

EIS No. 20180269, Draft, FHWA, NV, Interstate 80/Interstate 580/US Highway 395 Freeway-to-Freeway Interchange and Connecting Road Improvements, Comment Period Ends: 01/15/2019, Contact: Abdelmoez Abdalla 775-687-1231

EIS No. 20180270, Final, NSF, NM, Sacramento Peak Observatory, Review Period Ends: 12/17/2018, Contact: Elizabeth Pentecost 703-292-4907

EIS No. 20180271, Final, APHIS, PRO, Fruit Fly Cooperative Control Program, Review Period Ends: 12/17/2018, Contact: Jim E. Warren 212-316-3216

EIS No. 20180272, Draft, USN, NV, Fallon Range Training Complex Modernization, Comment Period Ends: 01/15/2019, Contact: Sara Goodwin 619-532-4463

EIS No. 20180273, Final, NRC, LA, Generic Environmental Impact Statement for License Renewal of Nuclear Plants, Supplement 58, Regarding River Bend Station, Unit 1, Final Report, Review Period Ends: 12/17/2018, Contact: David Drucker 301-415-6223

EIS No. 20180274, Final, NMFS, AK, Final Environmental Impact Statement for Issuing Annual Catch Limits To the Alaska Eskimo Whaling Commission for A Subsistence Hunt On Bowhead Whales for The Years 2019 And Beyond, Review Period Ends: 12/17/2018, Contact: John Henderschedt, ATTN: Carolyn Doherty 301-427-8385

EIS No. 20180275, Final, USACE, VA, Final Integrated City of Norfolk Coastal Storm Risk Management Feasibility Study, Review Period Ends: 12/17/2018, Contact: Katherine Perdue 757-201-7218

Amended Notices

EIS No. 20180235, Draft, USACE, VA, Draft Integrated City of Norfolk Coastal Storm Risk Management Feasibility Study, Contact: Katherine Perdue 757-201-7218

Revision to FR Notice Published 10/12/2018; Retracted due to erroneous filing.

Dated: November 13, 2018.
Robert Tomiak,
Director, Office of Federal Activities.

[FR Doc. 2018-25045 Filed 11-15-18; 8:45 am]

BILLING CODE 6560-50-P